FEDERAL COMMUNICATIONS COMMISSION

Public Information Collection Requirement Submitted to OMB for Review and Approval, Comments Requested

February 6, 2008.

SUMMARY: The Federal Communications Commission, as part of its continuing effort to reduce paperwork burden, invites the general public and other federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 13, 2008. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167 and to Cathy Williams, Federal Communications Commission, Room 1-C823, 445 12th Street, SW., Washington, DC or via Internet at Cathy.Williams@fcc.gov or PRA@fcc.gov. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.

FOR FURTHER INFORMATION CONTACT: For additional information or copies of the information collection(s), contact Cathy Williams at (202) 418-2918, or via Internet at Cathy.Williams@fcc.gov.

SUPPLEMENTARY INFORMATION: OMB Control Number: 3060-0095.

Title: Multi-Channel Video Programming Distributors Annual Employment Report.

Form Number: FCC Form 395-A.

Type of Review: Revision of a currently approved collection.

Respondents: Business or other for-profit entities; not-for-profit institutions.

Number of Respondents: 2,500.

Estimated Time per Response: 53 minutes.

Frequency of Response: Recordkeeping requirement; annual reporting requirement; once every five year reporting requirement.

Total Annual Burden: 2,200 hours.

Total Annual Cost: None.

Nature of Response: Required to obtain or retain benefits.

Confidentiality: Whether the Form is confidential will be determined in a pending Commission rulemaking.

Privacy Impact Assessment: No impact.

Needs and Uses: FCC Form 395-A, “The Multi-Channel Video Programming Distributor Annual Employment Report,” is a data collection device used by the Commission to assess industry employment trends and provide reports to Congress. By the Report, multichannel video programming distributors (“MVPDs”) identify employees by gender and race/ethnicity in fifteen specified job categories.

OMB Control Number: 3060-0390.

Title: Broadcast Station Annual Employment Report.

Form Number: FCC Form 395-B.

Type of Review: Extension of a currently approved collection.

Respondents: Business or other for-profit entities; not-for-profit institutions.

Number of Respondents: 14,000.

Estimated Time per Response: 53 minutes.

Frequency of Response: Annual reporting requirement.

Total Annual Burden: 12,320 hours.

Total Annual Cost: None.

Nature of Response: Required to obtain or retain benefits.

Confidentiality: Whether the Form is confidential will be determined in a pending Commission rulemaking.

Privacy Impact Assessment: No impact.

Needs and Uses: FCC Form 395-B, “The Broadcast Station Annual Employment Report,” is a data collection device used by the Commission to assess industry employment trends and provide reports to Congress. By the Report, broadcast licensees and permittees identify employees by gender and race/ethnicity in nine specified job categories.

Federal Communications Commission.
Ruth A. Dancey,
Associate Secretary.

[FR Doc. E8-2563 Filed 2-11-08; 8:45 am]

BILLING CODE 6712-01-P